NATIONAL AERONAUTICS AND SPACE ADMINISTRATION

[NOTICE: (23-011)]

Request for Information: DRAFT Federal Strategy to Advance an Integrated U.S. Greenhouse Gas Monitoring and Information System; Number NNH23ZDA009L

AGENCY: National Aeronautics and Space Administration (NASA).

ACTION: Request for Information (RFI).

SUMMARY: The National Aeronautics and Space Administration (NASA) has issued a Request for Information (RFI) on behalf of the Biden-Harris Administration's Greenhouse Gas Monitoring & Measurement Interagency Working Group (GHG IWG), established by the Office of Science & Technology Policy, White House Climate Policy Office, and Office of Management and Budget. The GHG IWG seeks to receive input from the public on the draft Federal Strategy to Advance an Integrated U.S. Greenhouse Gas Monitoring & Information System (GHGMIS Strategy) that is posted on the NASA Solicitation and Proposal Integrated Review and Evaluation System's (NSPIRES). The GHG IWG will use information received to 1) inform the drafting of the final version of the GHGMIS Strategy and 2) in discussions on potential partnerships related to demonstration projects.

DATES: Comments are requested on or before April 4, 2023. Early comments are encouraged. Comments received after this date will be considered to the extent practicable.

ADDRESSES:

• All responses to this RFI must be submitted in an electronic format only via the NASA Solicitation and Proposal Integrated Review and Evaluation System (NSPIRES) located at https://go.nasa.gov/USGGMIDraftFederalStrategy. A copy of the draft GHGMIS Strategy is posted as a separate PDF file at the same location.

• Mail: Comments submitted in a manner other than the one listed above, including emails or letters sent to SMD or other GHG IWG officials may not be accepted.

• Hand Delivery: Please note that NASA cannot accept any comments that are hand delivered or couriered. In addition, NASA cannot accept comments contained on any form of digital media storage devices, such as CDs/DVDs and USB drives.

FOR FURTHER INFORMATION CONTACT: Issues regarding clarifications or questions on this RFI can be sent to Ken Jucks, Program Manager, Earth Science Division, at kenneth.w.jucks@nasa.gov. Phone: 202-358-0476. For submission help or for any questions regarding the NSPIRES website, contact nspires-help@nasaprs.com Phone: (202) 479-9376, M-F, 8 a.m. to 6 p.m. EST/EDT

SUPPLEMENTARY INFORMATION:

I. Background

The Greenhouse Gas Monitoring & Measurement Interagency Working Group (GHG IWG) was established by the Office of Science & Technology Policy, White House Climate Policy Office, and Office of Management and Budget in 2022 to enhance coordination on existing capabilities and opportunities for enhancing measurement and quantification of GHG emissions and removals. In addition to the White House offices mentioned above, the GHG IWG includes the following United States (U.S.) federal agencies listed in alphabetical order: Department of Agriculture (USDA), Department of Commerce (including the National Institute of Standards and Technology, NIST, and the National Oceanic and Atmospheric Administration, NOAA), Department of Defense (DOD), Department of Energy (DOE), Department of Interior (DOI), Department of State (State), Environmental Protection Agency (EPA), NASA, and the National Science Foundation (NSF).

The draft GHGMIS Strategy developed by the GHG IWG outlines a framework for an integrated U.S. GHG monitoring & information system, near-term strategies to advance the system, and areas of interest for demonstration projects.

The GHG IWG is seeking public comments on the draft GHGMIS Strategy in recognition of the significant expertise on this topic that exists outside of government and the growing interest by companies, non-governmental organizations, and local and state agencies in generating or using GHG emissions data. A copy of the draft GHGMIS Strategy is posted as a PDF file on the NASA Solicitation and Proposal Integrated Review and Evaluation System's (NSPIRES) landing page for this RFI at https://go.nasa.gov/USGGMIDraftFederalStrategy.

II. Discussion of Questions

The RFI requests information on the following themes:

1. Does the draft GHGMIS Strategy contain any significant omissions, gaps or errors that would impede effectiveness?

2. What opportunities exist for federal agencies to partner with external entities on the framework, strategies, or demonstration projects outlined in the draft GHGMIS Strategy in ways that they have not previously done?

3. What coordination mechanisms, including existing convening or organizing bodies with current limited federal government engagement, should the GHG IWG agencies consider to enhance collaboration with external entities to advance U.S. greenhouse gas monitoring and information capabilities?

III. Written Comments

Written responses should not exceed 4 pages, excluding a cover page and any references as described in the NSPIRES solicitation number: NNH23ZDA009L entitled Request for Information: DRAFT Federal Strategy to Advance an Integrated U.S. Greenhouse Gas Monitoring and Information System (GHGM&IS). You may respond to some or all questions listed in the RFI. There is no limit on the number of responses from an individual or an institution or its organizational units. The RFI should not be construed as a solicitation for proposals or an obligation on the part of the government. Interested parties who respond to this RFI may be contacted for a follow-on strategic dialogue, discussion, or event.

IV. Review of Public Feedback

NASA will share the public's feedback with the GHG IWG members, who will use the feedback to help to develop the final GHGMIS Strategy and discuss potential partnerships related to demonstration projects. This notice is issued solely for information and program-planning purposes. Public input provided in response to this notice does not bind NASA or other GHG IWG members to any further actions, to include publishing a formal response or agreement to initiate a recommended change. The GHG IWG, including NASA, will consider the feedback and make changes or process improvements at its sole discretion.

Any public discussion by NASA or the other GHG IWG members of the results of this RFI will not disclose the identities of the respondents. It is not NASA's or other GHG IWG members' intent to disclose publicly respondents' proprietary information obtained in response to this RFI. To the full extent that it is protected pursuant to the Freedom of Information Act and other laws and regulations, information identified by a Respondent as “Proprietary or Confidential” will be kept confidential.

Cheryl Parker,
NASA Federal Liaison Officer.

[FR Doc. 2023-04328 Filed 3-1-23; 8:45 am]

BILLING CODE 7510-13-P